DEPARTMENT OF STATE

[Delegation of Authority 303]

Delegation by Henrietta Fore to Richard Greene of Foreign Assistance Authorities Normally Vested in the Director of Foreign Assistance

By virtue of the authority vested in the Secretary of State, including Section 1 of the State Department Basic Authorities Act, as amended (22 U.S.C. 2651a), and delegated to me by the Secretary of State in Delegation of Authority 301 and Delegation of Authority 293-1, I hereby delegate to Richard Greene, Acting Deputy Director of U.S. Foreign Assistance, to the extent authorized by law, all authorities and functions vested in me in Delegation of Authority 293-1, as well as all authorities and functions vested in me in future iterations of that delegation.

This delegation of authority shall expire upon the designation of an individual to serve as the Director of Foreign Assistance.

Notwithstanding this delegation of authority, I may exercise any function or authority delegated by this Delegation.

This delegation of authority shall be published in the Federal Register.

Dated: June 27, 2007.
Henrietta H. Fore,
Acting Director of Foreign Assistance, Department of State.

[FR Doc. E7-13658 Filed 7-12-07; 8:45 am]

BILLING CODE 4710-35-P